OCCUPATIONAL SAFETY AND HEALTH REVIEW COMMISSION

Senior Executive Service Performance Review Board Membership

AGENCY: Occupational Safety and Health Review Commission.

ACTION: Annual notice.

SUMMARY: Notice is given under 5 U.S.C. 4314(c)(4) of the appointment of members to the Performance Review Board (PRB) of the Occupational Safety and Health Review Commission.

DATES: Membership is effective on July 7, 2011.

FOR FURTHER INFORMATION CONTACT: Debra A. Hall, Acting Executive Director, U.S. Occupational Safety and Health Review Commission, 1120 20th Street, NW., Washington, DC 20036, (202) 606-5397.

SUPPLEMENTARY INFORMATION: The Review Commission, as required by 5 U.S.C. 4314(c)(1) through (5), has established a Senior Executive Service PRB. The PRB reviews and evaluates the initial appraisal of a senior executive's performance by the supervisor, and makes recommendations to the Chairman of the Review Commission regarding performance ratings, performance awards, and pay-for-performance adjustments. In the case of an appraisal of a career appointee, more than half of the members shall consist of career appointees, pursuant to 5 U.S.C. 4314(c)(5). The names and titles of the PRB members are as follows:

• Debra A. Carr, Director, Division of Policy, Planning, and Program Development, Office of Federal Contract Compliance Programs, U.S. Department of Labor;

• Matthew T. Wallen, Director, Office of Public Assistance, Governmental Affairs and Compliance, Surface Transportation Board, U.S. Department of Transportation;

• Lola A. Ward, Director for the Office of Administration, National Transportation Safety Board.

Dated: June 29, 2011.
Thomasina V. Rogers,
Chairman.

[FR Doc. 2011-17002 Filed 7-6-11; 8:45 am]

BILLING CODE 7600-01-P